DEPARTMENT OF HOUSING AND URBAN DEVELOPMENT

[Docket No. FR-4723-C-2C]

FY 2002 Super Notice of Funding Availability for HUD's Discretionary Grants Programs for Fiscal Year 2002; Technical Corrections

AGENCY: Office of the Assistant Secretary for Fair Housing and Equal Opportunity, HUD.

ACTION: Super Notice of Funding Availability (SuperNOFA) for HUD's Discretionary Grant Programs; Technical Corrections.

SUMMARY: On March 26, 2002, HUD published its Fiscal Year 2002 Super Notice of Funding Availability (SuperNOFA) for HUD's discretionary grant programs. This document makes certain technical corrections and revisions to the Fair Housing Initiatives Program (FHIP).

DATES: The application due date of May 22, 2002 for applications submitted under the FHIP remains unchanged from the application due date as published in the Federal Register of March 26, 2002.

FOR FURTHER INFORMATION CONTACT: Myron Newry, Public Trust Officer, FHIP/FHAP Support Division, Office of Programs, Office of Fair Housing and Equal Opportunity, Department of Housing and Urban Development, 451 Seventh Street, SW., Washington, DC. Telephone (202) 708-0800 (this is not a toll free number). Persons with speech or hearing impairments may call the FHIP/FHAP Division at 1-800-290-1671 or 1-800-HUD-2209 (SuperNOFA Clearinghouse TTY). You may also call the SuperNOFA Clearinghouse Information Center at 1-800-HUD-8929 or the Center's TTY number at 1-800-HUD 2209 (these are toll-free numbers).

SUPPLEMENTARY INFORMATION: On March 26, 2002 (67 FR 13825), HUD published its Fiscal Year (FY) 2002 Super Notice of Funding Availability (SuperNOFA) for HUD's Housing, Community Development, and Empowerment Programs. The FY 2002 SuperNOFA announced approximately $2.2 billion in HUD program funds covering 41 grant categories within programs operated and administered by HUD program offices.

This document makes certain corrections to the FY 2002 funding availability announcement for the Fair Housing Initiatives Program (FHIP). The funding availability announcement for FHIP (FHIP NOFA) begins at page 14003 (67 FR 14003) of the March 26, 2002 SuperNOFA.

Accordingly, in the Super Notice of Funding Availability (SuperNOFA) for HUD's Discretionary Grants Programs for Fiscal Year 2002 [Docket No. FR-4723 N 01] in the issue of Tuesday, March 26, 2002, the following revisions and corrections are made to the FHIP NOFA, beginning at 67 FR 14003:

On page 14015, second column, under Rating Factor 3 (Soundness of Approach), HUD removes paragraphs A(i)(V)(a) and (b). Also, on page 14015, second column, under Rating Factor 3, HUD removes paragraphs A(ii)(V)(a) and (b).

This document did not extend the application due date (which has already expired) because the removal of paragraphs A(i)(V)(a) and (b) and A(ii)(V)(a) and (b) under Rating Factor 3 does not prejudice any applicant nor potential applicant. The removal has no effect on the substance nor the score of any one applicant, i.e., it is neutral in its effect on all applicants.

Dated: June 7, 2002.
Kenneth L Marcus,
General Deputy Assistant Secretary, Office of Fair Housing and Equal Opportunity.

[FR Doc. 02-16300 Filed 6-27-02; 8:45 am]

BILLING CODE 4210-28-P